DEPARTMENT OF THE INTERIOR

Bureau of Reclamation

Final Public Meeting for Reclamation's Managing for Excellence Project

AGENCY: Bureau of Reclamation, Interior.

ACTION: Notice of a public meeting.

SUMMARY: The Bureau of Reclamation is holding a workshop to inform the public about the close-out of the Managing for Excellence project. The meeting to be held will inform the public about the results of the Managing for Excellence action plan and seek final public input and feedback.

DATES: February 29, 2008, 1 p.m. to 3 p.m.

ADDRESS: Monte Carlo Resort and Casino, 3770 Las Vegas Blvd. South, Las Vegas, Nevada 89109.

FOR FURTHER INFORMATION CONTACT: Debbie Byers at 303-445-2790.

SUPPLEMENTARY INFORMATION: Managing for Excellence—An Action Plan for the 21st Century Bureau of Reclamation, outlined a process and timeframe for the project which identified and addressed the specific 21st Century challenges Reclamation must meet to fulfill its mission to manage, develop, and protect water and related resources in an environmentally and economically sound manner in the interest of the American public. The project examined Reclamation's core capabilities and the agency's ability to respond to both expected and unforeseeable future needs in an innovative and timely manner. For more information regarding the project, Action Plan, and specific actions being taken, please visit the Managing for Excellence Web site at http://www.usbr.gov/excellence.

Registration

Although you may register the day of the workshop beginning at 12 p.m., we highly encourage you to register prior to the date of the meeting online at http://www.usbr.gov/excellence, or by phone at 303-445-2935.

Dated: January 18, 2008.
Kris D. Polly,
Deputy Commissioner—External and Intergovernmental Affairs, Washington Office.

[FR Doc. E8-1995 Filed 2-4-08; 8:45 am]

BILLING CODE 4310-MN-P